DEPARTMENT OF THE INTERIOR

Bureau of Land Management

[UT-040-08-2822-JS-DNF9-24-1A]

Notice of Motor Vehicle Travel Closure and Restrictions on Public Lands in Beaver County, UT

AGENCY: Bureau of Land Management, Interior.

ACTION: Notice of Motor Vehicle Travel Closure and Restrictions.

SUMMARY: Under the authority of 43 CFR 8364.1, notice is hereby given that a travel closure and restriction for the use and operation of motorized vehicles, including Off-Highway Vehicles, is in effect on public lands administered by the Cedar City Field Office, Bureau of Land Management.

DATES: The closure will be in effect on May 22, 2008 and will remain in effect until November 1, 2009, supporting on-going emergency stabilization efforts and minimizing further soil erosion. The closure provides for two growing seasons of rest consistent with grazing regulations and the DOI ES/R Handbook; allowing emergency stabilization objectives to be achieved which are focused on stabilizing soils and the re-establishment of vegetation following the Milford Flat wild fire of 2007.

FOR FURTHER INFORMATION CONTACT: Todd S. Christensen, Field Manager, Cedar City Field Office, 126 E. DL Sargent Drive, Cedar City, UT 84720. Telephone (435) 586-2401.

SUPPLEMENTARY INFORMATION: The closure affects all federal land within the Mineral Mountains in Beaver County, Utah, within the following description:

T. 26S. R. 7W., SLM;

Section 3, S½S½;

Section 4, S½S½;

Section 5, S½S½;

Sections 7, 8, 9, 10;

Section 11, W½, W½E½;

Section 14, NW¼, N½SW¼, SW¼SW¼;

Sections 15, 17, 18, 19, 20, 21;

Section 22, W½, N½NE¼, SW¼NE¼;

Section 27, W½, W½SE¼, SW¼NE¼;

Sections 28, 29, 30, 31, 33;

Section 34, W½, SE¼, W½NE¼;

T. 26S. R. 8W., SLM;

Section 1, S½S½;

Section 3, S½S½;

Section 4, S½S½;

Section 5, S½S½;

Section 6, S½S½;

Sections 7, 8, 9, 10, 11, 12, 13, 14, 15, 17, 18, 19, 20, 21, 22, 23, 24, 25, 26, 27, 28, 29, 30, 31, 33, 34, 35;

T. 26S. R. 9W., SLM;

Sections 9, 10, 11, 12, 13, 14, 15, 16, 21, 22, 23, 24, 25, 26, 27, 28, 33, 34, 35;

T. 27S. R. 7W., SLM;

Section 3, W½;

Sections 4, 5, 6, 7;

Section 8, N½, SW¼, W½SE¼;

Section 9, N½;

Section 10, NW¼;

Section 17, N½NW¼, NW¼NE¼;

Section 18, W½, N½NE¼, SW¼NE¼;

T. 27S. R. 8W., SLM;

Sections 1, 3, 4, 5, 6, 7;

Section 10, NE¼NW¼, N½NE¼;

Section 11, N½N½, SW½NE¼;

Section 12, W½NW¼, N½NE¼;

Section 14, S½SW¼, W½SE¼;

Section 15, SE¼, W½;

Sections 17, 18, 19, 20, 21, 22;

Section 23, S½, NW¼, NW¼NE¼;

Section 24, SW¼, SW¼NW¼;

Section 25, W½, SW¼SE¼;

Sections 26, 27, 28;

Section 29, NW¼SW¼;

Section 30, NW¼, NW¼NE¼;

Sections 33, 34, 35;

T. 27S., R. 9W., SLM;

Sections 1, 2, 3, 4, 9, 10, 11, 12, 13, 14, 15, 21, 22, 23, 24;

Section 25, N½, NE¼SW¼, NW¼SE¼;

Sections 26, 27, 28;

Section 33, N½, N½SE¼;

Section 34, NW¼, NW¼SW¼;

Section 35, N½NW¼;

Section 36, N½N½;

T. 28S. R. 7W., SLM;

Section 6, W½;

T. 28S. R. 8W., SLM;

Sections 1, 3;

Section 4, NE¼, E½SE¼;

Section 10, N½NW¼, NE¼NE¼;

Section 11, N½N½;

The travel closure and restriction is necessary to prevent further degradation of the watershed, and to protect soils from erosion and damage by motorized vehicles following stabilization efforts, allowing vegetation to re-establish. Maps of the restricted area are available online at http://www.blm.gov/ut/st/en/fo/cedar_city.1.html, and at the Bureau of Land Management, Cedar City Field Office, 176 E. DL Sargent Dr., Cedar City, UT 84720. Also available for review at the Cedar City Field Office are the Milford Flat Fire Emergency Stabilization and Rehabilitation DNA-Utah-040-07-26, and the Normal Year Fire Stabilization and Rehabilitation Plan and Environmental Assessment (EA-UT-0040-03-28), as well as other documents associated with this closure. Motorized travel is permitted within the restricted area along routes marked with signs as “open” to vehicle traffic.

The following restrictions apply:

1. No person shall operate any motorized vehicle within the identified area, except on routes marked as “open” for use.

2. Camping is limited to within 50 feet of any open road.

Exemptions

This order applies to all forms of camping and motorized vehicle use. Personnel that are exempt from the area restrictions include any Federal, State, local officer, or employee in the scope of their duties within the restricted area; members of any organized law enforcement, rescue or fire-fighting force in the performance of an official duty, or any person authorized or permitted in writing by the Bureau of Land Management; or any person or corporation holding a valid right-of-way or easement. This order applies to BLM administered lands within the restricted area, not to private or state lands within the boundary.

Enforcement

Any person who violates any of these restrictions may be tried before a United States Magistrate and fined no more than $1,000, imprisoned no more than 12 months, or both, in accordance with 43 U.S.C. 1733(a) and 43 CFR 8360.0-7. Such violations may also be subject to the enhanced penalties provided by 18 U.S.C 3571 and 3581. In accordance with 43 CFR 8365.1-7, State or local officials may also impose penalties for violations of Utah law.

Selma Sierra,
State Director, Utah.

[FR Doc. E8-11431 Filed 5-21-08; 8:45 am]

BILLING CODE 4310-DQ-P